DEPARTMENT OF COMMERCE

Foreign-Trade Zones Board

[B-4-2016]

Foreign-Trade Zone (FTZ) 196—Fort Worth, Texas; Authorization of Production Activity; General Electric Transportation (Locomotives, Drill Equipment, Off-Highway Vehicle Wheels, Inverters and Brake Systems), Fort Worth and Haslet, Texas

On January 20, 2016, General Electric Transportation submitted a notification of proposed production activity to the Foreign-Trade Zones (FTZ) Board for its facilities within Subzone 196B, in Fort Worth and Haslet, Texas.

The notification was processed in accordance with the regulations of the FTZ Board (15 CFR part 400), including notice in the Federal Register inviting public comment (81 FR 5704-5707, February 3, 2016). The FTZ Board has determined that no further review of the activity is warranted at this time. The production activity described in the notification is authorized, subject to the FTZ Act and the Board's regulations, including Section 400.14, and further subject to a restriction requiring that inputs classified under HTSUS Subheadings 5603.94, 5607.50, 5909.00, 6305.20, 6307.90, 7019.19 and 7019.51 as well as HTSUS Headings 3208 and 3209 be admitted to the subzone in privileged foreign status (19 CFR 146.41) or domestic status (19 CFR 146.43).

Dated: May 29, 2016.
Andrew McGilvray,
Executive Secretary.

[FR Doc. 2016-12538 Filed 5-25-16; 8:45 am]

BILLING CODE 3510-DS-P